DEPARTMENT OF THE INTERIOR

Bureau of Ocean Energy Management

[Docket No. BOEM-2023-0013]

Gulf of Mexico Outer Continental Shelf Oil and Gas Lease Sale 261

AGENCY: Bureau of Ocean Energy Management, Interior.

ACTION: Notice of delay of sale.

SUMMARY: With this notice, the Bureau of Ocean Energy Management (BOEM) is announcing the rescheduling of Gulf of Mexico Lease Sale 261. Instead of holding the sale on September 27, 2023, as originally planned, BOEM will open and publicly announce bids received for blocks offered in the sale on November 8, 2023, in accordance with the order issued by the United States Court of Appeals for the Fifth Circuit on September 25, 2023. Additional information regarding the sale and a new Final Notice of Sale (NOS) package will be available on BOEM's website at least 30 days prior to the sale date at https://www.boem.gov/oil-gas-energy/leasing/lease-sale-261.

FOR FURTHER INFORMATION CONTACT: The New Orleans Office Lease Sale Coordinator, Greg Purvis, at BOEMGOMRLeaseSales@boem.gov or 504-736-1729.

SUPPLEMENTARY INFORMATION: On August 25, 2023, BOEM published in the Federal Register the Final NOS for Lease Sale 261. See 88 FR 58310. In that Final NOS, BOEM announced that the sale would be held on September 27, 2023. Two lawsuits then challenged the Final NOS in the U.S. District Court for the Western District of Louisiana, and plaintiffs in those cases sought preliminary injunctions to force BOEM to (1) include lease blocks previously excluded to protect the Rice's whale and (2) remove provisions in Stipulation No. 4, “Protected Species” that BOEM had added to protect the Rice's whale from certain oil and gas activities while BOEM engaged in a reinitiated consultation under the Endangered Species Act. On September 21, 2023, six days before the planned sale, the district court issued a preliminary injunction (Case No. 2:23-CV-01157) requiring BOEM to include the previously excluded blocks and modify the stipulation by removing the new Rice's whale protections. The court also ordered BOEM to hold the sale on or before September 30, 2023. On September 22, 2023, the government filed an emergency motion in the U.S. Court of Appeals for the Fifth Circuit, requesting an extension of time to allow BOEM to take the administrative steps necessary to hold the modified sale and provide the statutorily required notice to the public of the revised sale terms. On September 25, 2023, the Fifth Circuit issued an order (Case No. 23-30666) directing BOEM to hold Lease Sale 261 as required by the district court, but permitting BOEM until November 8, 2023, to hold the sale. The Fifth Circuit's order stated that no further extensions will be granted.

BOEM is returning all bids submitted by bidders under the previously issued Final NOS and is rescheduling Lease Sale 261 for November 8, 2023. Bidders wishing to participate in Lease Sale 261 must re-submit bids in accordance with the terms and conditions contained in the revised Final NOS which, in accordance with the Outer Continental Shelf Lands Act, BOEM will publish at least 30 days prior to the sale date.

BOEM intends to publish the revised Final NOS in the Federal Register and on its website. The public and interested bidders are advised that a lapse in appropriations may preclude BOEM from publishing the Final NOS in the Federal Register. In the event of a partial or full government shutdown, BOEM will still publish the Final NOS package (e.g., Final Notice of Sale, Lease Stipulations, and Information to Lessees) on its website at least 30 days prior to the sale date, and that notice will serve as the official notice of the sale.

Authority: 43 U.S.C. 1337; 30 CFR part 556.

Elizabeth Klein,
Director, Bureau of Ocean Energy Management.

[FR Doc. 2023-21714 Filed 9-29-23; 8:45 am]

BILLING CODE 4340-98-P